ENVIRONMENTAL PROTECTION AGENCY

40 CFR Parts 52 and 81

[EPA-R08-OAR-2017-0656; FRL-9975-84-Region 8]

Approval and Promulgation of Air Quality Implementation Plans; State of Wyoming; Sheridan PM10 Nonattainment Area Limited Maintenance Plan and Redesignation Request

AGENCY: Environmental Protection Agency (EPA).

ACTION: Final rule.

SUMMARY: The Environmental Protection Agency (EPA) is approving the Limited Maintenance Plan (LMP), submitted by the State of Wyoming to the EPA on June 2, 2017, for the Sheridan moderate PM10 nonattainment area (Sheridan NAA) and concurrently redesignating the Sheridan NAA to attainment of the National Ambient Air Quality Standard (NAAQS) for particulate matter with an aerodynamic diameter less than or equal to a nominal 10 micrometers (PM10). In order to approve the LMP and redesignation, the EPA is determining that the Sheridan NAA has attained the 1987 24-hour PM10 NAAQS of 150 µg/m3. This determination is based upon monitored air quality data for the PM10 NAAQS during the years 2014-2016. Additionally, the EPA is approving the Sheridan LMP as meeting the appropriate transportation conformity requirements found in 40 CFR 93, subpart A.

DATES: Effective May 4, 2018.

ADDRESSES: The EPA has established a docket for this action under Docket ID Number EPA-R08-OAR-2017-0656. All documents in the docket are listed on the http://www.regulations.gov website. Although listed in the index, some information is not publicly available, e.g., confidential business information (CBI) or other information whose disclosure is restricted by statute. Certain other material, such as copyrighted material, is not placed on the internet and will be publicly available only in hard copy form. Publicly available docket materials are available through , or please contact the person identified in the FOR FURTHER INFORMATION CONTACT section for additional availability information.

FOR FURTHER INFORMATION CONTACT: James Hou, (303) 312-6210, hou.james@epa.gov.

SUPPLEMENTARY INFORMATION:

I. Background

The Sheridan NAA encompasses the City of Sheridan, Wyoming, and was designated nonattainment for the 1987 24-hour PM10 NAAQS and classified as moderate under sections 107(d)(4)(B), following enactment of the Clean Air Act (CAA) Amendments of 1990. See 56 FR 56694 (November 6, 1991). On June 23, 1994, the EPA approved Sheridan's moderate area plan including reasonably available control measures (RACM), an attainment demonstration, emissions inventory, quantitative milestones, and control and contingency requirements.

The factual and legal background for this action is discussed in detail in our January 29, 2018 (83 FR 4015) proposed approval of the Sheridan Limited Maintenance Plan and concurrent redesignation of the Sheridan NAA to attainment of the NAAQS for PM10.

II. Response to Comments

The EPA received one comment on the rulemaking and after reviewing the comment, the EPA has determined that the comment is outside the scope of our proposed action and fails to identify any material issue necessitating a response.

III. Final Action

The EPA is making the determination that the Sheridan NAA has attained the 1987 24-hour PM10 NAAQS of 150 µg/m3. This determination is based upon monitored air quality data for the PM10 NAAQS during the years 2014-2016. Additionally, the EPA is approving the Sheridan NAA LMP submitted on June 2, 2017, as meeting the applicable CAA requirements, and we have determined the LMP to be sufficient to provide for maintenance of the PM10 NAAQS over the course of the 10-year maintenance period out to 2027. The EPA is also approving the Sheridan LMP as meeting the appropriate transportation conformity requirements found in 40 CFR 93, subpart A. Lastly, this rule redesignates the Sheridan NAA from nonattainment to attainment of the PM10 NAAQS.

IV. Statutory and Executive Order Reviews

Under the CAA, the Administrator is required to approve a SIP submission that complies with the provisions of the Act and applicable federal regulations. 42 U.S.C. 7410(k); 40 CFR 52.02(a). Thus, in reviewing SIP submissions, the EPA's role is to approve state actions, provided that they meet the criteria of the CAA. Accordingly, this action merely approves some state law provisions as meeting federal requirements; this action does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act; and

• Does not provide the EPA with the discretionary authority to address, as appropriate, disproportionate human health or environmental effects, using practicable and legally permissible methods, under Executive Order 12898 (59 FR 7629, February 16, 1994).

In addition, the SIP does not apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register.This action is not a “major rule” as defined by 5 U.S.C. 804(2).

Under section 307(b)(1) of the CAA, petitions for judicial review of this action must be filed in the United States Court of Appeals for the appropriate circuit by June 4, 2018. Filing a petition for reconsideration by the Administrator of this final rule does not affect the finality of this action for the purposes of judicial review nor does it extend the time within which a petition for judicial review may be filed, and shall not postpone the effectiveness of such rule or action. This action may not be challenged later in proceedings to enforce its requirements. (See CAA section 307(b)(2).)

List of Subjects

40 CFR Part 52

Environmental protection, Air pollution control, Incorporation by reference, Intergovernmental relations, Particulate matter, Reporting and recordkeeping requirements.

40 CFR Part 81

Environmental protection, Air pollution control, National Parks, Wilderness areas.

Authority: 42 U.S.C. 7401 et seq.

Dated: March 29, 2018.
Douglas H. Benevento,
Regional Administrator, Region 8.

40 CFR parts 52 and 81 are amended as follows:

PART 52—APPROVAL AND PROMULGATION OF IMPLEMENTATION PLANS

1. The authority citation for Part 52 continues to read as follows:

Authority: 42 U.S.C. 7401 et seq.

Subpart ZZ—Wyoming

2. Section 52.2620 paragraph (e) is amended by adding an entry for “(29) Sheridan 1987 PM10 Limited Maintenance Plan” at the end of the table to read as follows:

§ 52.2620 Identification of plan.

* * * * *

(e) * * *

Rule No. | Rule title | State effective date | EPA effective date | Final rule citation/date | Comments
* * * * * * *
(29) XXIX | Sheridan 1987 PM10 Limited Maintenance Plan | 12/14/2015 | 5/4/2018 | [Insert Federal Register citation]

3. Add § 52.2624 to read as follows:

§ 52.2624 Control strategy and regulations: Particulate matter.

On June 2, 2017, the State of Wyoming submitted a maintenance plan for the Sheridan PM10 nonattaiment area and requested that this area be redesignated to attainment for the PM10 National Ambient Air Quality Standards. The redesignation request and maintenance plan satisfy all applicable requirements of the Clean Air Act.

PART 81—DESIGNATION OF AREAS FOR AIR QUALITY PLANNING PURPOSES

4. The authority citation for part 81 continues to read as follows:

Authority: 42 U.S.C. 7401 et seq.

Subpart C—Section 107 Attainment Status Designations

5. In § 81.351, the table entitled “Wyoming—PM-10” is amended under “Sheridan County” by revising the entry for “City of Sheridan” to read as follows:

§ 81.351 Wyoming.

* * * * *

Designated Area | Designation: Date | Designation: Type | Classification: Date | Classification: Type
* * * * * * *
Sheridan County:
* * * * * * *
City of Sheridan | 5/4/2018 | Attainment
* * * * * * *

* * * * *

[FR Doc. 2018-06848 Filed 4-3-18; 8:45 am]

BILLING CODE 6560-50-P